DEPARTMENT OF DEFENSE

Office of the Secretary

[Docket ID: DoD-2024-OS-0141]

Submission for OMB Review; Comment Request

AGENCY: The Under Secretary of Defense for Acquisition and Sustainment (USD(A&S)), Department of Defense (DoD).

ACTION: 30-Day information collection notice.

SUMMARY: The DoD has submitted to the Office of Management and Budget (OMB) for clearance the following proposal for collection of information under the provisions of the Paperwork Reduction Act.

DATES: Consideration will be given to all comments received by May 28, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Application for Homeowners Assistance; DD Form 1607; OMB Control Number 0704-0463.

Type of Request: Extension.

Number of Respondents: 15.

Responses per Respondent: 1.

Annual Responses: 15.

Average Burden per Response: 1 hour.

Annual Burden Hours: 15.

Needs and Uses: In accordance with Section 3374 of U.S. Code title 42; the American Recovery and Reinvestment Act of 2009 (Pub. L. 111-5); 32 CFR part 239; and DoD Directive 4165.50E, “Homeowners Assistance Program (HAP),” the DoD provides funds to financially compensate eligible members of the Armed Forces who incur a wound, injury, or illness in the line of duty during a deployment in support of the Armed Forces on or after September 11, 2001; wounded DoD and Coast Guard civilian homeowners reassigned in furtherance of medical treatment or rehabilitation or due to medical retirement in connection with a disability incurred in the performance of his or her duties during a forward deployment occurring on or after September 11, 2001 in support of the Armed Forces; and surviving spouses of fallen warriors who move within two years of the death of such employee or member. Additionally, during the times of Base Realignment and Closure, the HAP program can be authorized to assist civilian and active-duty homeowners who are impacted by the closure or realignment of their job duties. Priority access to the funds goes to surviving spouses of those killed during deployment and those who were wounded, injured, or ill during deployment on or after September 11, 2001. HAP applicants use DD Form 1607, “Application for Homeowner's Assistance Program (HAP),” to apply for HAP benefits.

Affected Public: Individuals or households.

Frequency: On occasion.

Respondent's Obligation: Voluntary.

DOD Clearance Officer: Mr. Reginald Lucas.

Dated: April 22, 2025.
Aaron T. Siegel,
Alternate OSD Federal Register Liaison Officer, Department of Defense.

[FR Doc. 2025-07198 Filed 4-25-25; 8:45 am]

BILLING CODE 6001-FR-P